DEPARTMENT OF AGRICULTURE

Agricultural Marketing Service

7 CFR Part 927

[Docket No. FV00-927-1 FRC]

Winter Pears Grown in Oregon and Washington; Establishment of Quality Requirements for the Beurre D'Anjou Variety of Pears; Correction

AGENCY: Agricultural Marketing Service, USDA.

ACTION: Final rule; correction.

SUMMARY: The Agricultural Marketing Service published in the Federal Register on August 7, 2000, a final rule which established quality requirements for the Beurre D'Anjou (Anjou) variety of pears under the winter pear marketing order. This document corrects the regulatory text of that rule.

EFFECTIVE DATE: September 6, 2000.

FOR FURTHER INFORMATION CONTACT: George J. Kelhart, Marketing Order Administration Branch, Fruit and Vegetable Programs, AMS, USDA, room 2525-S, P.O. Box 96456, Washington, DC 20090-6456; telephone 202-720-2491.

SUPPLEMENTARY INFORMATION:

Background

The final regulations that are the subject of this correction revised § 927.105 and added a new § 927.316.

Need for Correction

As published, the regulatory text in paragraph (a) of § 927.316 indicates, in part, that Beurre D'Anjou pears shall have a certification by the Federal-State Inspection Service, issued prior to shipment, showing that such pears have an average pressure test of 14 pounds. The words “or less” were inadvertently omitted following the words “14 pounds.” The words “14 pounds or less” are needed to recognize that pears naturally ripen and soften, over time, and could have an average pressure test less than 14 pounds, which would be acceptable in the marketplace.

Correction of Publication

Accordingly, the publication of the final rule (Docket No. FV00-927-1 FR), which was the subject of FR Doc. 00-19875 is corrected as follows:

1. On page 48139, column two, paragraph (a), line 8 is corrected by inserting the words “or less.” after the words “14 pounds”.

2. The authority citation for 7 CFR part 927 continues to read as follows:

Authority: 7 U.S.C. 601-674.

Dated: August 29, 2000.
Robert C. Keeney,
Deputy Administrator, Fruit and Vegetable Programs.

[FR Doc. 00-22579 Filed 9-1-00; 8:45 am]

BILLING CODE 3410-02-U